DEPARTMENT OF COMMERCE

Technology Administration

Technology Administration Performance Review Board Membership

September 2001.

The Technology Administration Performance Review Board reviews performance appraisals, agreements, and recommended actions pertaining to employees in the Senior Executive Service and reviews performance-related pay increases for ST-3104 employees. The Board makes recommendations to the appropriate appointing authority concerning such matters so as to ensure the fair and equitable treatment of these individuals.

The following is the full membership of the Board:

Bruce P. Mehlman (PAS), Assistant Secretary for Technology Policy, Technology Administration, Washington, D.C. 20230, Appointment Expires: 12/31/03

Gordon W. Day (CR), Chief, Optoelectronics Division, Electronics and Engineering Laboratory Office, National Institute of Standards & Technology, Boulder, CO 80303, Appointment Expires: 12/31/01

Dale E. Hall (CR), Deputy Director, Materials Science and Engineering Laboratory, Materials Science and Engineering Laboratory, National Institute of Standards & Technology, Gaithersburg, MD 20899-8500, Appointment Expires: 12/31/01

Karen H. Brown (GC), Deputy Director, National Institute of Standards &Technology, Gaithersburg, MD 20899-1000, Appointment Expires: 12/31/03

Daniel Hurley (CR), Director of Communication and Information Infrastructure Assurance Program, National Telecommunications and Information Administration, Washington, D.C. 20230, Appointment Expires: 12/31/03

Ronald Lawson (GC), Director, National Technical Information Service, Springfield, VA 22161, Appointment Expires: 12/31/03

Dennis Swyt (CR), Chief, Precision Engineering Division, Manufacturing Engineering Laboratory, National Institute of Standards & Technology, Gaithersburg, MD 20899-8210, Appointment Expires: 12/31/02

Robert F. Moore (CR), Deputy Director for Safety and Facilities, National Institute of Standards & Technology, Gaithersburg, MD 20899-3200, Appointment Expires: 12/31/03

Cynthia Clark (CR), Associate Director for Methodology & Standards, Census Bureau, Washington, DC 20233, Appointment Expires: 12/31/01

Susan Zevin (CR), Deputy Director, Information Technology Laboratory, Information Technology Laboratory, National Institute of Standards & Technology, Gaithersburg, MD 20899-8900, Appointment Expires: 12/31/02

Dated: August 27, 2001.
Samuel W. Bodman,
Deputy Secretary, Department of Commerce.

[FR Doc. 01-23214 Filed 9-17-01; 8:45 am]

BILLING CODE 3510-18-M